DEPARTMENT OF HEALTH AND HUMAN SERVICES

Substance Abuse and Mental Health Services Administration

Notice of a Meeting

Pursuant to Public Law 92-463, notice is hereby given of a meeting of the Substance Abuse and Mental Health Services Administration (SAMHSA) National Advisory Council in September 2003.

The SAMHSA National Advisory Council meeting will be open and will include a report by the SAMHSA Administrator on key policy issues and current program developments. There will also be discussions about SAMHSA's four new standard grant announcements, the President's New Freedom Commission on Mental Health Commission Report, SAMHSA's Strategic Prevention Framework, and advancements in medication treatment. In addition, the meeting will include updates on the President's Access to Recovery Initiative, the 2002 National Survey on Drug Use and Health, and the April 2004 Co-occurring Summit.

Attendance by the public will be limited to space available. Public comments are welcome. Please communicate with the individual listed as contact below to make arrangements to comment or to request special accommodations for persons with disabilities.

Substantive program information, a summary of the meeting, and a roster of Council members may be obtained either by accessing the SAMHSA Council Web site, www.samhsa.gov/council/council or by communicating with the contact whose name and telephone number is listed below. The transcript for the open session will also be available on the SAMHSA Council Web site.

Committee Name: SAMHSA National Advisory Council.

Date/Time: Tuesday, September 9, 2003, 9 a.m. to 5:15 p.m. (Open).

Place: Embassy Suites Hotel, Chevy Chase Room, 4300 Military Road, NW., Washington, DC 20015.

Contact: Toian Vaughn, Executive Secretary, 5600 Fishers Lane, Parklawn Building, Room 12C-05, Rockville, MD 20857, Telephone: (301) 443-7016; FAX: (301) 443-7590 and e-mail: TVaughn@samhsa.gov.

Dated: August 19, 2003.
Toian Vaughn,
Committee Management Officer, SAMHSA.

[FR Doc. 03-21756 Filed 8-25-03; 8:45 am]

BILLING CODE 4162-20-P